DEPARTMENT OF THE INTERIOR

National Park Service

[NPS-WASO-NRNHL-18569; PPWOCRADI0, PCU00RP14.R50000]

National Register of Historic Places; Notification of Pending Nominations and Related Actions

Nominations for the following properties being considered for listing or related actions in the National Register were received by the National Park Service before May 30, 2015. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 16, 2015. Before including your address, phone number, email address, or other personal identifying information in your comment, you should be aware that your entire comment—including your personal identifying information—may be made publicly available at any time. While you can ask us in your comment to withhold your personal identifying information from public review, we cannot guarantee that we will be able to do so.

Dated: June 4, 2015.
J. Paul Loether,
Chief, National Register of Historic Places/National Historic Landmarks Program.

CALIFORNIA

Los Angeles County

University of Southern California Historic District, Roughly bounded by W. Jefferson & W. Exposition Blvds., S. Figueroa St. & McClintock Ave., Los Angeles, 15000408

COLORADO

Logan County

Pantall Elementary School, 1215 N. 5th St., Sterling, 15000409

CONNECTICUT

Fairfield County

Rowayton Depot Historic District, 1-23 Cudlipp, 5-15 Dibble, 5-28 Hunt, 12,19 Jacob & 7-11 Thomes Sts., 1-44 Arnold Ln., 6-12 Belmont Pl., Norwalk, 15000410

GEORGIA

Elbert County

Elberton Commercial Historic District (Boundary Increase and Additional Documentation), N. McIntosh, Thomas, Church, & S. Oliver Sts., Elberton, 15000411

Fulton County

Lindridge—Martin Manor Historic District, Roughly bounded by Armand Rd., NE., Lindridge, Melante, & Cardova Drs., NE., Armand Ct., NE., Atlanta, 15000412

KENTUCKY

Fayette County

Young, Charles, Park and Community Center, 540 E. 3rd St., Lexington, 15000413

LOUISIANA

Caddo Parish

Washington, Booker T., High School, 2104 Milam St., Shreveport, 15000414

MAINE

Androscoggin County

Lewiston Mills and Water Power System Historic District, Bounded by Androscoggin R., Lisbon, Locust & Bates Sts., Lewiston, 15000415

Cumberland County

Great Chebeague Golf Club, 16 Stone Wharf Rd., Chebeague Island, 15000416

Kennebec County

Hodgkins, Ella R., Intermediate School, 17 Malta St., Augusta, 15000417

Piscataquis County

Norton's Corner School, 2373 Elliotsville Rd., Willimantic, 15000418

MISSOURI

St. Louis County

Jefferson Barracks VA Hospital, (United States Second Generation Veterans Hospitals MPS) 1 Jefferson Barracks Dr., St. Louis, 15000419

NEW JERSEY

Cumberland County

Remington, John and Elizabeth, House, 689 Roadstown Rd., Hopewell Township, 15000420

NORTH CAROLINA

Carteret County

HMT BEDFORDSHIRE (shipwreck and remains), (World War II Shipwrecks along the East Coast and Gulf of Mexico MPS) Offshore Beaufort, Beaufort, 15000421

NORTH DAKOTA

Dunn County

Independence Congregational Church, BIA Rd. 13, Mandaree, 15000422

OHIO

Hamilton County

United States Playing Card Company Complex, 4590 Beech St., Norwood, 15000044

VERMONT

Windham County

Vermont Academy Campus Historic District, (Educational Resources of Vermont MPS) 10 Long Walk, Rockingham, 15000423

WISCONSIN

Dane County

Holy Name Seminary, 702 S. High Point Rd., Madison, 15000424

Rock County

Goodrich, Ezra and Elizabeth, House, 742 E. Madison Ave., Milton, 15000425

Sauk County

Spellman Granite Works, 615 Phillips Blvd., Sauk City, 15000426

A request to move has been received for the following resource:

COLORADO

El Paso County

Rio Grande Engine No. 168, 9 S. Sierra Madre, Colorado Springs, 79000601

A request for removal has been received for the following resources:

MAINE

Androscoggin County

Bradford House, 54-56 Pine St., Lewiston, 78000154

Aroostook County

McElwain House, 2 Main St., Caribou, 82000739

Cumberland County

First Baptist Church, 353 Congress St., Portland, 78000170

Franklin County

New Sharon Bridge, S. of ME 2 over Sandy River, New Sharon, 99001189

Knox County

Crockett, Knott, House, 750 Main St., Rockland, 93001112

Piscataquis County

Burgess, Walter and Eva, Farm, 79 Shaw Rd., Macomber Corner, 97000312

NORTH DAKOTA

Eddy County

Myhre, Jens, Round Barn, (North Dakota Round Barns TR) ND 30, New Rockford, 86002749

La Moure County

Rodman Octagonal Barn, (North Dakota Round Barns TR) ND 30, Edgeley, 86002753

McIntosh County

Wishek City Hall, Old, 21 Centennial St., Wishek, 05001141

Stark County

Gerhardt Octagonal Pig House, (North Dakota Round Barns TR) ND 38, Gladstone, 86002758

[FR Doc. 2015-16162 Filed 6-30-15; 8:45 am]

BILLING CODE 4312-51-P